DEPARTMENT OF HOUSING AND URBAN DEVELOPMENT

[Docket No. FR-5030-C-17A]

Notice of HUD's Fiscal Year (FY) 2006 Notice of Funding Availability, Policy Requirements and General Section to SuperNOFA for HUD's Discretionary Grant Programs; Technical Assistance Areas for the Lead Outreach Program NOFA

AGENCY: Office of the Assistant Secretary for Administration, HUD.

ACTION: Notice of HUD's Fiscal Year (FY) 2006 Notice of Funding Availability, Policy Requirements and General Section to SuperNOFA for HUD's Discretionary Grant Programs; Technical Assistance Areas for the Lead Outreach Program NOFA.

SUMMARY: On January 20, 2006, HUD published its Fiscal Year (FY) 2006, Notice of Funding Availability Policy Requirements and General Section (General Section) to the SuperNOFA for HUD's Discretionary Programs. On March 8, 2006, HUD published its Fiscal Year (FY) 2006, SuperNOFA, for HUD's Discretionary Grant Programs. Included in the 2006 SuperNOFA Programs is the Lead Outreach Program. This Notice provides additional information on areas in which technical assistance services are potentially needed. It was developed in response to a question asked during the SuperNOFA broadcast for the FY 2006 Lead Outreach NOFA.

SUPPLEMENTARY INFORMATION: On April 4, 2006, HUD held its SuperNOFA broadcast for the Lead Outreach Notice of Funding Availability. A question was asked in regard to page 11848, section II, Terms of Award, third column, on the number of lead grantees in each geographic area and the estimated number of lead grantees requiring technical assistance in each geographic area. This table is posted to HUD's Web site at http://www.hud.gov/offices/adm/grants/nofa06/grplead.cfm. The table provides applicants for the Technical Assistance activity category of the FY 2006 Lead Outreach NOFA with the number of current lead grantees by area and the estimated number of grantees that a technical assistance provider may be asked to service. In summary, in the Eastern United States (HUD Regions I, II, III and IV), there are currently 105 lead grantees, of which 22 may need technical assistance; in the Central United States and Midwest (HUD Regions V, VI, VII and VIII), there are currently 84 lead grantees, of which 5 may need technical assistance; in the Western United States (HUD Regions IX and X), there are currently 34 lead grantees, of which 6 may need technical assistance. Nationwide, there are currently 223 lead grantees, of which 33 may need technical assistance.

If you have questions regarding this Notice, please contact Jonnette Hawkins, Office of Healthy Homes and Lead Hazard Control, telephone 202-708-0614, extension 7593 (this is not a toll-free number); or via e-mail at Jonnette_G._Hawkins@hud.gov. If you are a hearing-or speech-impaired person, you may reach the above telephone number through TTY by calling the toll-free Federal Information Relay Service at 1-800-877-8339.

Dated: May 9, 2006.
Jon L. Gant,
Director for the Office of Healthy Homes and Lead Hazard Control.

[FR Doc. E6-7354 Filed 5-12-06; 8:45 am]

BILLING CODE 4210-67-P